ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Wednesday through Friday, November 18-20, 2009, at the times and location noted below.

DATES: The schedule of events is as follows:

Wednesday, November 18, 2009

1:30-3 p.m.—Budget Committee;

3 p.m.-4 p.m.—Technical Programs Committee.

Thursday, November 19, 2009

10 a.m.-11:30 a.m.—U.S. Postal Service Presentation on Accessibility Program;

1:30 p.m.-3 p.m.—Ad Hoc Committee Meetings (Closed to Public);

3 p.m.-4:30 p.m.—Planning and Evaluation Committee (Closed to Public).

Friday, November 20, 2009

1:30 p.m.-3 p.m.—Board Meeting.

ADDRESSES: All meetings will be held at the Embassy Suites DC Convention Center Hotel, 900 10th Street, NW., Washington, DC 20001.

FOR FURTHER INFORMATION CONTACT: For further information regarding the meetings, please contact David Capozzi, Executive Director, (202) 272-0010 (voice) and (202) 272-0082 (TTY).

SUPPLEMENTARY INFORMATION: At the Board meeting scheduled on Friday, September 11, the Access Board will consider the following agenda items:

• Approval of the draft September 11, 2009 Draft Meeting Minutes;

• Budget Committee Report;

• Technical Programs Committee Report;

• Planning and Evaluation Committee Report;

• Ad Hoc Committee Reports;

• Executive Director's Report;

• ADA and ABA Guidelines; Federal Agency Updates.

All meetings are accessible to persons with disabilities. An assistive listening system, computer assisted real-time transcription (CART), and sign language interpreters will be available at the Board meeting. Persons attending Board meetings are requested to refrain from using perfume, cologne, and other fragrances for the comfort of other participants.

David M. Capozzi,
Executive Director.

[FR Doc. E9-26763 Filed 11-5-09; 8:45 am]

BILLING CODE 8150-01-P